DEPARTMENT OF AGRICULTURE

Agricultural Marketing Service

[Docket Number FV-04-304]

United States Standards for Grades of Mangos

AGENCY: Agricultural Marketing Service, USDA.

ACTION: Notice; request for public comment.

SUMMARY: The Agricultural Marketing Service (AMS) of the Department of Agriculture (USDA) is soliciting comments on the proposed voluntary U.S. Standards for Grades of Mangos. Members of the Fruit and Vegetable Industry Advisory Committee, the Fresh Produce Association of the Americas and other members of the mango industry have requested this action to be taken. The proposed standards would provide industry with a common language and uniform basis for trading, thus promoting orderly and efficient marketing of mangos.

DATES: Comments must be received by May 10, 2005.

ADDRESSES: Interested persons are invited to submit written comments to the Standardization Section, Fresh Products Branch, Fruit and Vegetable Programs, Agricultural Marketing Service, U.S. Department of Agriculture, 1400 Independence Ave., SW., Room 1661, South Building, Stop 0240, Washington, DC 20250-0240, fax (202) 720-8871, e-mail FPB.DocketClerk@usda.gov. Comments should make reference to the dates and page number of this issue of the Federal Register and will be made available for public inspection in the above office during regular business hours and on the Internet.

The draft of the United States Standards for Grades of Mangos is available by accessing AMS's home page on the Internet at: http://www.ams.usda.gov/fv/fpbdocketlist.htm.

FOR FURTHER INFORMATION CONTACT: David L. Priester, at the above address or call (202) 720-2185, e-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by the USDA/AMS/Fruit and Vegetable Programs.

AMS is proposing to establish voluntary U.S. Standards for Grades of Mangos using the procedures that appear in part 36 title 7 of the Code of Federal Regulations (7 CFR part 36).

Background

On December 16, 2003, AMS published a notice in the Federal Register (68 FR 69984) soliciting comments for the possible development of U.S. Standards for Grades of Mangos. AMS received seven comments, one from a foreign government agency, two from trade organizations, three from importers, and one from growers and exporters. All of these comments supported the creation of U.S. standards.

Based on those comments, AMS has developed proposed grade standards for mangos. These standards contain sections pertaining to grades, sizes, tolerances, application of tolerances, definitions, and a table of defects. This proposal would establish the following grades as well as a tolerance for each grade: U.S. Fancy, U.S. No. 1 and U.S. No. 2. In addition, a proposed “Application of Tolerances” section and “Size Requirements” section with a table listing size designations would also be established. AMS is proposing to define “Injury,” “Damage,” “Serious damage,” along with specific basic requirements and other defects. Also proposed is a “Classification of Defects” section, in a table format, which would list some of the various defects affecting mangos and proposed scoring guides for the particular grade involved. AMS is soliciting comments on the proposed U.S. Standards for Grades of Mangos and the probable impact on growers, processors, and distributors.

According to AMS' Market News Branch Summaries referenced in the Fresh Fruit and Vegetable Shipments Report, from 1993 through 2003 mango importation continued to steadily increase in the U.S. Recently, the mango industry stressed the need for U.S. standards which would provide a uniform basis for trading mangos that are imported, exported, or marketed domestically.

The adoption of these proposed standards would provide the rapidly growing mango industry with U.S. grade standards similar to those extensively in use by the fresh produce industry to assist in orderly marketing of other commodities.

The official grade of a lot of mangos covered by these standards will be determined by the procedures set forth in the Regulations Governing Inspection, Certification, and Standards of Fresh Fruits, Vegetables and Other Products (Sec. 51.1 to 51.61).

This notice provides for a 60 day comment period for interested parties to comment on the proposed U.S. Standards for Grades of Mangos.

Authority: 7 U.S.C. 1621-1627.

Dated: March 7, 2005.
Kenneth C. Clayton,
Acting Administrator.

[FR Doc. 05-4811 Filed 3-10-05; 8:45 am]

BILLING CODE 3410-02-P